DEPARTMENT OF TRANSPORTATION

Federal Aviation Administration

14 CFR Part 97

[Docket No. 30993; Amdt. No. 3622]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 15, 2015. The compliance date for each SIAP, associated Takeoff Minimums, and ODP is specified in the amendatory provisions.

The incorporation by reference of certain publications listed in the regulations is approved by the Director of the Federal Register as of January 15, 2015.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFRs and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on December 5, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * *Effective Upon Publication

AIRAC date | State | City | Airport | FDC No. | FDC date | Subject
8-Jan-15 | NM | Deming | Deming Muni | 4/9675 | 11/13/14 | This NOTAM, published in TL 15-01, is hereby rescinded in its entirety.
8-Jan-15 | MN | Cloquet | Cloquet Carlton County | 4/0142 | 11/26/14 | RNAV (GPS) RWY 17, Orig.
8-Jan-15 | MN | Cloquet | Cloquet Carlton County | 4/0145 | 11/26/14 | RNAV (GPS) RWY 35, Amdt 1.
8-Jan-15 | MN | Cloquet | Cloquet Carlton County | 4/0149 | 11/26/14 | NDB RWY 17, Amdt 4.
8-Jan-15 | MN | Cloquet | Cloquet Carlton County | 4/0152 | 11/26/14 | NDB RWY 35, Amdt 5.
8-Jan-15 | MI | Ann Arbor | Ann Arbor Muni | 4/0166 | 11/26/14 | RNAV (GPS) RWY 24, Amdt 2B.
8-Jan-15 | MI | Ann Arbor | Ann Arbor Muni | 4/0168 | 11/26/14 | VOR RWY 24, Amdt 13D.
8-Jan-15 | MN | Minneapolis | Flying Cloud | 4/0176 | 11/26/14 | RNAV (GPS) RWY 28L, Amdt 2.
8-Jan-15 | MN | Minneapolis | Flying Cloud | 4/0180 | 11/26/14 | RNAV (GPS) RWY 28R, Amdt 2B.
8-Jan-15 | MN | Minneapolis | Flying Cloud | 4/0197 | 11/26/14 | ILS OR LOC RWY 10R, Amdt 3A.
8-Jan-15 | MN | Minneapolis | Flying Cloud | 4/0202 | 11/26/14 | RNAV (GPS) RWY 36, Amdt 2.
8-Jan-15 | MN | Minneapolis | Flying Cloud | 4/0217 | 11/26/14 | VOR/DME RWY 36, Amdt 1.
8-Jan-15 | MN | Minneapolis | Flying Cloud | 4/0218 | 11/26/14 | VOR RWY 10R, Amdt 9.
8-Jan-15 | MN | Minneapolis | Flying Cloud | 4/0219 | 11/26/14 | COPTER ILS OR LOC RWY 10R, Amdt 1.
8-Jan-15 | MN | Minneapolis | Flying Cloud | 4/0224 | 11/26/14 | RNAV (GPS) RWY 10L, Amdt 1A.
8-Jan-15 | MN | Minneapolis | Flying Cloud | 4/0225 | 11/26/14 | RNAV (GPS) RWY 10R, Orig.
8-Jan-15 | MN | International Falls | Falls Intl-Einarson Field | 4/0728 | 11/26/14 | COPTER ILS OR LOC RWY 31, Amdt 1B.
8-Jan-15 | OH | Cleveland | Cleveland-Hopkins Intl | 4/0812 | 11/25/14 | RNAV (GPS) RWY 28, Amdt 2.
8-Jan-15 | OH | Cleveland | Cleveland-Hopkins Intl | 4/0824 | 11/25/14 | RNAV (GPS) RWY 24L, Amdt 3B.
8-Jan-15 | OH | Cleveland | Cleveland-Hopkins Intl | 4/0852 | 11/25/14 | RNAV (GPS) RWY 24R, Amdt 3B.
8-Jan-15 | NJ | Newark | Newark Liberty Intl | 4/0919 | 11/21/14 | RNAV (RNP) Y RWY 29, Amdt 1B.
8-Jan-15 | LA | Bogalusa | George R Carr Memorial Air Fld | 4/1337 | 11/21/14 | Takeoff Minimums and (Obstacle) DP, Amdt 3.
8-Jan-15 | IA | Sioux City | Sioux Gateway/Col. Bud Day Field | 4/2725 | 11/21/14 | RNAV (GPS) RWY 31, Orig-B.
8-Jan-15 | NE | Omaha | Millard | 4/2731 | 11/25/14 | RNAV (GPS) RWY 12, Orig.
8-Jan-15 | NE | Omaha | Millard | 4/2732 | 11/25/14 | RNAV (GPS) RWY 30, Orig.
8-Jan-15 | TN | Tullahoma | Tullahoma Rgnl Arpt/Wm Northern Field | 4/2906 | 11/21/14 | NDB RWY 18, Amdt 3.
8-Jan-15 | TN | Tullahoma | Tullahoma Rgnl Arpt/Wm Northern Field | 4/2907 | 11/21/14 | RNAV (GPS) RWY 18, Amdt 1.
8-Jan-15 | TN | Tullahoma | Tullahoma Rgnl Arpt/Wm Northern Field | 4/2909 | 11/21/14 | RNAV (GPS) RWY 24, Amdt 1.
8-Jan-15 | TN | Tullahoma | Tullahoma Rgnl Arpt/Wm Northern Field | 4/2910 | 11/21/14 | RNAV (GPS) RWY 36, Amdt 1.
8-Jan-15 | TN | Tullahoma | Tullahoma Rgnl Arpt/Wm Northern Field | 4/2911 | 11/21/14 | RNAV (GPS) RWY 6, Amdt 1.
8-Jan-15 | TN | Tullahoma | Tullahoma Rgnl Arpt/Wm Northern Field | 4/2912 | 11/21/14 | VOR RWY 24, Orig-C.
8-Jan-15 | TN | Tullahoma | Tullahoma Rgnl Arpt/Wm Northern Field | 4/2913 | 11/21/14 | VOR RWY 6, Amdt 1.
8-Jan-15 | KY | Pine Knot | McCreary County | 4/3113 | 11/21/14 | RNAV (GPS) RWY 22, Orig.
8-Jan-15 | KY | Louisville | Louisville Intl-Standiford Field | 4/3204 | 11/21/14 | RNAV (RNP) Z RWY 17L, Orig-B.
8-Jan-15 | MS | Oxford | University-Oxford | 4/3287 | 11/21/14 | VOR/DME A, Amdt 5.
8-Jan-15 | MN | International Falls | Falls Intl-Einarson Field | 4/3462 | 11/26/14 | Takeoff Minimums and (Obstacle) DP, Amdt 3.
8-Jan-15 | MN | International Falls | Falls Intl-Einarson Field | 4/3466 | 11/26/14 | ILS OR LOC RWY 31, Amdt 10A.
8-Jan-15 | MN | International Falls | Falls Intl-Einarson Field | 4/3469 | 11/26/14 | ILS OR LOC/DME RWY 13, Amdt 1B.
8-Jan-15 | MN | International Falls | Falls Intl-Einarson Field | 4/3470 | 11/26/14 | NDB RWY 31, Amdt 9.
8-Jan-15 | MN | International Falls | Falls Intl-Einarson Field | 4/3473 | 11/26/14 | RNAV (GPS) RWY 13, Orig.
8-Jan-15 | MN | International Falls | Falls Intl-Einarson Field | 4/3475 | 11/26/14 | RNAV (GPS) RWY 31, Orig.
8-Jan-15 | MN | International Falls | Falls Intl-Einarson Field | 4/3478 | 11/26/14 | VOR RWY 13, Amdt 14.
8-Jan-15 | MN | International Falls | Falls Intl-Einarson Field | 4/3479 | 11/26/14 | VOR RWY 31, Amdt 15A.
8-Jan-15 | MN | International Falls | Falls Intl-Einarson Field | 4/3480 | 11/26/14 | VOR/DME RWY 31, Amdt 5.
8-Jan-15 | FL | Jacksonville | Cecil | 4/3565 | 11/21/14 | RNAV (GPS) RWY 36L, Orig.
8-Jan-15 | NC | Wallace | Henderson Field | 4/3567 | 11/21/14 | RNAV (GPS) RWY 27, Orig.
8-Jan-15 | WI | La Crosse | La Crosse Rgnl | 4/4001 | 11/14/14 | RNAV (GPS) RWY 13, Orig-A.
8-Jan-15 | WI | La Crosse | La Crosse Rgnl | 4/4002 | 11/14/14 | RNAV (GPS) RWY 18, Orig-B.
8-Jan-15 | WI | La Crosse | La Crosse Rgnl | 4/4006 | 11/14/14 | RNAV (GPS) RWY 36, Orig-A.
8-Jan-15 | AL | Prattville | Prattville-Grouby Field | 4/4010 | 11/21/14 | RNAV (GPS) RWY 9, Amdt 2B.
8-Jan-15 | AK | Kodiak | Kodiak | 4/5109 | 11/19/14 | ILS OR LOC/DME Y RWY 25, Amdt 2B.
8-Jan-15 | CO | Grand Junction | Grand Junction Regional | 4/5882 | 11/21/14 | ILS OR LOC RWY 11, Amdt 16A.
8-Jan-15 | MN | Warren | Warren Muni | 4/6149 | 11/21/14 | Takeoff Minimums and (Obstacle) DP, Orig.
8-Jan-15 | MA | Boston | General Edward Lawrence Logan Intl | 4/6917 | 11/21/14 | Takeoff Minimums and (Obstacle) DP, Amdt 13.
8-Jan-15 | SC | Clemson | Oconee County Rgnl | 4/6980 | 11/19/14 | RNAV (GPS) RWY 25, Amdt 3.
8-Jan-15 | GA | Dublin | W H ‘Bud’ Barron | 4/7099 | 11/21/14 | ILS OR LOC RWY 2, Amdt 2C.
8-Jan-15 | IN | La Porte | La Porte Muni | 4/7605 | 11/21/14 | LOC/NDB RWY 2, Amdt 1C.
8-Jan-15 | IN | La Porte | La Porte Muni | 4/7607 | 11/21/14 | RNAV (GPS) RWY 2, Amdt 1A.
8-Jan-15 | IN | La Porte | La Porte Muni | 4/7609 | 11/21/14 | RNAV (GPS) RWY 20, Amdt 1.
8-Jan-15 | NJ | Caldwell | Essex County | 4/7835 | 11/19/14 | LOC RWY 22, Amdt 3A.
8-Jan-15. | NJ | Caldwell | Essex County | 4/7841 | 11/19/14 | RNAV (GPS) RWY 22, Amdt 1A.
8-Jan-15 | NJ | Caldwell | Essex County | 4/7845 | 11/19/14 | RNAV (GPS) RWY 10, Orig-A.
8-Jan-15 | NJ | Caldwell | Essex County | 4/7846 | 11/19/14 | RNAV (GPS) RWY 4, Orig-A.
8-Jan-15 | NJ | Newark | Newark Liberty Intl | 4/7858 | 11/21/14 | ILS OR LOC RWY 11, Amdt 2C.
8-Jan-15 | AL | Prattville | Prattville-Grouby Field | 4/7996 | 11/21/14 | RNAV (GPS) RWY 27, Orig-B.
8-Jan-15 | AK | Selawik | Selawik | 4/8032 | 11/19/14 | RNAV (GPS) RWY 27, Orig.
8-Jan-15 | AK | Selawik | Selawik | 4/8033 | 11/19/14 | RNAV (GPS) RWY 4, Orig-A.
8-Jan-15 | AK | Selawik | Selawik | 4/8034 | 11/19/14 | RNAV (GPS) Y RWY 22, Orig-A.
8-Jan-15 | AK | Selawik | Selawik | 4/8035 | 11/19/14 | VOR RWY 4, Amdt 1A.
8-Jan-15 | AK | Selawik | Selawik | 4/8036 | 11/19/14 | VOR RWY 22, Amdt 1A.
8-Jan-15 | WA | Port Angeles | Port Angeles CGAS | 4/8038 | 11/19/14 | Takeoff Minimums and (Obstacle) DP, Amdt 4.
8-Jan-15 | NJ | Toms River | Ocean County | 4/8189 | 11/25/14 | VOR/DME RWY 24, Amdt 4.
8-Jan-15 | NJ | Toms River | Ocean County | 4/8191 | 11/25/14 | VOR RWY 6, Amdt 7.
8-Jan-15 | PA | Beaver Falls | Beaver County | 4/8363 | 11/26/14 | LOC RWY 10, Amdt 4A.
8-Jan-15 | PA | Beaver Falls | Beaver County | 4/8366 | 11/26/14 | RNAV (GPS) RWY 10, Orig-A.
8-Jan-15 | PA | Beaver Falls | Beaver County | 4/8367 | 11/26/14 | RNAV (GPS) RWY 28, Orig-A.
8-Jan-15 | PA | Beaver Falls | Beaver County | 4/8371 | 11/26/14 | VOR RWY 28, Amdt 10A.
8-Jan-15 | MI | Mackinac Island | Mackinac Island | 4/8414 | 11/21/14 | RNAV (GPS) RWY 8, Amdt 1A.
8-Jan-15 | MI | Mackinac Island | Mackinac Island | 4/8415 | 11/21/14 | RNAV (GPS) RWY 26, Amdt 1A.
8-Jan-15 | MI | Mackinac Island | Mackinac Island | 4/8416 | 11/21/14 | VOR/DME A, Amdt 9.
8-Jan-15 | PR | Aguadilla | Rafael Hernandez | 4/8717 | 11/21/14 | VOR RWY 8, Amdt 6B.
8-Jan-15 | PR | Aguadilla | Rafael Hernandez | 4/8718 | 11/21/14 | VOR/DME OR TACAN RWY 26, Orig-A.
8-Jan-15 | PR | Aguadilla | Rafael Hernandez | 4/8721 | 11/21/14 | VOR/DME OR TACAN RWY 8, Amdt 3.
8-Jan-15 | PR | Aguadilla | Rafael Hernandez | 4/8722 | 11/21/14 | RNAV (GPS) RWY 8, Orig-B.
8-Jan-15 | PR | Aguadilla | Rafael Hernandez | 4/8726 | 11/21/14 | RNAV (GPS) RWY 26, Orig-A.
8-Jan-15 | NJ | Toms River | Ocean County | 4/8851 | 11/25/14 | RNAV (GPS) RWY 6, Orig.
8-Jan-15 | NJ | Toms River | Ocean County | 4/8852 | 11/25/14 | ILS OR LOC RWY 6, Amdt 2.
8-Jan-15 | NJ | Toms River | Ocean County | 4/8853 | 11/25/14 | RNAV (GPS) RWY 24, Orig.
8-Jan-15 | MI | Ann Arbor | Ann Arbor Muni | 4/8934 | 11/26/14 | RNAV (GPS) RWY 6, Amdt 2A.
8-Jan-15 | PA | Wellsboro | Wellsboro Johnston | 4/8935 | 11/25/14 | RNAV (GPS) RWY 10, Orig.
8-Jan-15 | PA | Wellsboro | Wellsboro Johnston | 4/8945 | 11/25/14 | RNAV (GPS) RWY 28, Orig.
8-Jan-15 | UT | Wendover | Wendover | 4/9182 | 11/19/14 | VOR/DME B, Amdt 1.
8-Jan-15 | CA | Tulare | Mefford Field | 4/9258 | 11/21/14 | RNAV (GPS) RWY 13, Orig-A.
8-Jan-15 | CA | Tulare | Mefford Field | 4/9259 | 11/21/14 | VOR/DME RWY 13, Amdt 1A.
8-Jan-15 | CO | Denver | Denver Intl | 4/9339 | 11/25/14 | RNAV (GPS) Y RWY 17R, Amdt 1A.
8-Jan-15 | WY | Riverton | Riverton Rgnl | 4/9340 | 11/25/14 | ILS OR LOC RWY 28, Amdt 2.
8-Jan-15 | OH | Cleveland | Cleveland-Hopkins Intl | 4/9359 | 11/25/14 | ILS OR LOC RWY 24L, ILS RWY 24L (SA CAT II), Amdt 22B.
8-Jan-15 | OH | Cleveland | Cleveland-Hopkins Intl | 4/9360 | 11/25/14 | ILS OR LOC RWY 6R, ILS RWY 6R (SA CAT II), Amdt 21B.
8-Jan-15 | WI | La Crosse | La Crosse Rgnl | 4/9373 | 11/25/14 | Takeoff Minimums and (Obstacle) DP, Amdt 6.
8-Jan-15 | WI | La Crosse | La Crosse Rgnl | 4/9374 | 11/25/14 | ILS OR LOC RWY 18, Amdt 21.
8-Jan-15 | WI | La Crosse | La Crosse Rgnl | 4/9375 | 11/25/14 | RNAV (GPS) RWY 31, Orig-A.
8-Jan-15 | WI | La Crosse | La Crosse Rgnl | 4/9383 | 11/25/14 | VOR RWY 13, Amdt 31.
8-Jan-15 | WI | La Crosse | La Crosse Rgnl | 4/9384 | 11/25/14 | VOR RWY 36, Amdt 32.
8-Jan-15 | WI | La Crosse | La Crosse Rgnl | 4/9385 | 11/25/14 | NDB RWY 18, Amdt 19A.
8-Jan-15 | TX | Dallas-Fort Worth | Dallas/Fort Worth Intl | 4/9593 | 11/19/14 | RNAV (GPS) RWY 36L, Amdt 3B.
8-Jan-15 | TX | Dallas-Fort Worth | Dallas/Fort Worth Intl | 4/9594 | 11/19/14 | RNAV (GPS) RWY 36R, Amdt 3A.
8-Jan-15 | VA | Charlottesville | Charlottesville-Albemarle | 4/9748 | 11/21/14 | RNAV (GPS) Y RWY 21, Amdt 2.
8-Jan-15 | VA | Charlottesville | Charlottesville-Albemarle | 4/9751 | 11/21/14 | RNAV (GPS) Z RWY 21, Amdt 1.
8-Jan-15 | VA | Abingdon | Virginia Highlands | 4/9852 | 11/25/14 | LOC RWY 24, Amdt 5.

[FR Doc. 2014-30840 Filed 1-14-15; 8:45 am]

BILLING CODE 4910-13-P